DEPARTMENT OF ENERGY

Federal Energy Regulatory Commission

[Project Nos. 8865-006 and 8865-007; Project Nos. 8866-006 and 8866-007]

N. Stanley Standal and Loretta M. Standal; Lynn E. Stevenson; Notice of Change in Docket Numbers

1. On March 18, 1986, the Commission issued two licenses to the Lynn E. Stevenson, one for Project No. 1, FERC Project No. 8865 ¹ and the other for Project No. 2, FERC Project No. 8866.² Both projects are located on different unnamed tributaries to the Snake River in Gooding County, Idaho.

¹ 34 FERC ¶ 62,531 (1986).

² 34 FERC ¶ 62,530 (1986).

2. Several years later, Mr. Stevenson died and, on March 18, 2004, the Commission issued an Order Approving Transfer of License ³ for Project No. 2, FERC Project No. 8866 approving the transfer of license from the estate of Lynn E. Stevenson to N. Stanley and Loretta M. Standal. Shortly thereafter, on July 20, 2004, the Commission issued an Order Amending License ⁴ for Project No. 2, FERC Project No. 8866, for the replacement of the single 85 kW turbine/generator unit with three units totaling 70 kW. However, these orders misidentified the transferred and amended license as Project No. 2, FERC Project No. 8866, when the orders should have identified the project and license as Project No. 1, FERC Project No. 8865. The transfer of license and amendment orders were also incorrectly docketed as P-8866-006 and P-8866-007, respectively, when the orders should have been docketed as P-8865-006 and P-8865-007.

³ 106 FERC ¶ 62,212 (2004).

⁴ 108 FERC ¶ 62,059 (2004).

3. Accordingly, the Commission corrects the record in this notice by substituting Project No. 1, FERC Project No. 8865, instead of Project No. 2, FERC Project No. 8866, in the transfer and amendment orders. N. Stanley and Loretta M. Standal are correctly identified as the licensees for Project No. 1, FERC Project No. 8865 and Lynn E. Stevenson is still the license of record for Project No. 2, FERC Project No. 8866.

4. In order to correct the record based on this earlier misidentification, all filings and issuances since the filing of the transfer of license application, on November 12, 2003, made in P-8866 are moved into record for P-8865 and all filings made in P-8865 are moved in the record for P-8866.

Dated: July 18, 2011.
Kimberly D. Bose,
Secretary.

[FR Doc. 2011-18558 Filed 7-21-11; 8:45 am]

BILLING CODE 6717-01-P